DEPARTMENT OF ENERGY

Federal Energy Regulatory Commission

Combined Notice of Filings No. 1

September 01, 2010.

Take notice that the Commission has received the following Natural Gas Pipeline Rate and Refund Report filings:

Docket Numbers: RP10-1130-000.

Applicants: Mississippi River Transmission Corp.

Description: Annual Report of Penalty Revenue Credits of Mississippi River Transmission Corporation.

Filed Date: 08/31/2010.

Accession Number: 20100831-5086.

Comment Date: 5 p.m. Eastern Time on Monday, September 13, 2010.

Docket Numbers: RP10-1131-000.

Applicants: CenterPoint Energy Gas Transmission Company.

Description: CenterPoint Energy Gas Transmission Company submits tariff filing per 154.204: Alto compressor wheeling fuel use to be effective 10/1/2010.

Filed Date: 08/31/2010.

Accession Number: 20100831-5108.

Comment Date: 5 p.m. Eastern Time on Monday, September 13, 2010.

Docket Numbers: RP10-1132-000.

Applicants: Fayetteville Express Pipeline LLC.

Description: Fayetteville Express Pipeline LLC submits Statement of Negotiated Rates, Version 1.0.0 and its Non-Conforming Agreements Version 1.0.0, to be effective 10/1/2010.

Filed Date: 08/31/2010.

Accession Number: 20100831-5116.

Comment Date: 5 p.m. Eastern Time on Monday, September 13, 2010.

Docket Numbers: RP10-1133-000.

Applicants: Sea Robin Pipeline Company, LLC.

Description: Sea Robin Pipeline Company, LLC submits tariff filing per 154.204: Hurricane Surcharge Filing to be effective 10/1/2010.

Filed Date: 08/31/2010.

Accession Number: 20100831-5118.

Comment Date: 5 p.m. Eastern Time on Monday, September 13, 2010.

Docket Numbers: RP10-1134-000.

Applicants: Questar Pipeline Company.

Description: Questar Pipeline Company submits tariff filing per 154.203: Baseline to be effective 8/31/2010.

Filed Date: 08/31/2010.

Accession Number: 20100831-5126.

Comment Date: 5 p.m. Eastern Time on Monday, September 13, 2010.

Docket Numbers: RP10-1135-000.

Applicants: Gulf South Pipeline Company, LP.

Description: Gulf South Pipeline Company, LP submits tariff filing per 154.501: 2010 Cash In/Cash Out Report to be effective N/A.

Filed Date: 08/31/2010.

Accession Number: 20100831-5135.

Comment Date: 5 p.m. Eastern Time on Monday, September 13, 2010.

Docket Numbers: RP10-1136-000.

Applicants: Guardian Pipeline, L.L.C.

Description: Guardian Pipeline, L.L.C. submits tariff filing per 154.203: Guardian Baseline Filing to be effective 8/31/2010.

Filed Date: 08/31/2010.

Accession Number: 20100831-5142.

Comment Date: 5 p.m. Eastern Time on Monday, September 13, 2010.

Docket Numbers: RP10-1137-000.

Applicants: Cimarron River Pipeline, LLC.

Description: Cimarron River Pipeline, LLC submits tariff filing per 154.402: ACA 2010 to be effective 10/1/2010.

Filed Date: 08/31/2010.

Accession Number: 20100831-5143.

Comment Date: 5 p.m. Eastern Time on Monday, September 13, 2010.

Docket Numbers: RP10-1138-000.

Applicants: Gulf Crossing Pipeline Company LLC.

Description: Gulf Crossing Pipeline Company LLC submits its Annual Cash In/Cash Out Report for the period of April 1, 2009 through June 30, 2010.

Filed Date: 08/31/2010.

Accession Number: 20100831-5145.

Comment Date: 5 p.m. Eastern Time on Monday, September 13, 2010.

Docket Numbers: RP10-1139-000.

Applicants: Northern Natural Gas Company.

Description: Northern Natural Gas Company submits Fifty Third Revised Sheet 66 et al. to its FERC Gas Tariff, Fifth Revised Volume 1 to be effective 9/1/10.

Filed Date: 08/31/2010.

Accession Number: 20100831-0203.

Comment Date: 5 p.m. Eastern Time on Monday, September 13, 2010.

Docket Numbers: RP10-1140-000.

Applicants: Williston Basin Interstate Pipeline Company.

Description: Williston Basin Interstate Pipeline Company submits Seventy- Sixth Revised Sheet 15 et al. to its FERC Gas Tariff, Second Revised Volume 1 to be effective 10/1/10.

Filed Date: 08/31/2010.

Accession Number: 20100831-0205.

Comment Date: 5 p.m. Eastern Time on Monday, September 13, 2010.

Docket Numbers: RP10-1141-000.

Applicants: Natural Gas Pipeline Company of America LLC.

Description: Natural Gas Pipeline Company of America LLC submits amendment to an existing negotiated rate Storage Rate Schedule NNS agreement with Marathon Oil Company.

Filed Date: 08/31/2010.

Accession Number: 20100831-0206.

Comment Date: 5 p.m. Eastern Time on Monday, September 13, 2010.

Docket Numbers: RP10-1142-000.

Applicants: Florida Gas Transmission Company, LLC.

Description: Florida Gas Transmission Company, LLC submits tariff filing per 154.204: Winter Fuel Filing to be effective 10/1/2010.

Filed Date: 08/31/2010.

Accession Number: 20100831-5157.

Comment Date: 5 p.m. Eastern Time on Monday, September 13, 2010.

Docket Numbers: RP10-1143-000.

Applicants: Natural Gas Pipeline Company of America LLC.

Description: Natural Gas Pipeline Company of America LLC submits amendments to existing negotiated rate Storage Rate Schedule NSS agreements between Natural and Niska Gas Storage on file on with Commission.

Filed Date: 08/31/2010.

Accession Number: 20100831-0207.

Comment Date: 5 p.m. Eastern Time on Monday, September 13, 2010.

Docket Numbers: RP10-1144-000.

Applicants: Colorado Interstate Gas Company.

Description: Colorado Interstate Gas Company submits tariff filing per 154.403(d)(2): Quarterly FL&U 10/1/10 to be effective 10/1/2010.

Filed Date: 08/31/2010.

Accession Number: 20100831-5168.

Comment Date: 5 p.m. Eastern Time on Monday, September 13, 2010.

Docket Numbers: RP10-1145-000.

Applicants: Southern Natural Gas Company.

Description: Southern Natural Gas Company submits tariff filing per 154.203: Order No. 587-U Compliance to be effective 11/1/2010.

Filed Date: 08/31/2010.

Accession Number: 20100831-5177.

Comment Date: 5 p.m. Eastern Time on Monday, September 13, 2010.

Docket Numbers: RP10-1146-000.

Applicants: Southern LNG Inc.

Description: Southern LNG Inc. submits tariff sections to implement Version 1.9 of the North American Energy Standards Board pursuant to Order No. 587-U, to be effective 11/1/2010.

Filed Date: 08/31/2010.

Accession Number: 20100831-5185.

Comment Date: 5 p.m. Eastern Time on Monday, September 13, 2010.

Docket Numbers: RP10-1147-000.

Applicants: Elba Express Company, L.L.C.

Description: Elba Express Company, L.L.C. submits tariff filing per 154.203: Order No. 587-U Compliance to be effective 11/1/2010.

Filed Date: 08/31/2010.

Accession Number: 20100831-5189.

Comment Date: 5 p.m. Eastern Time on Monday, September 13, 2010.

Docket Numbers: RP10-1148-000.

Applicants: CenterPoint Energy Gas Transmission Company.

Description: CenterPoint Energy Gas Transmission Company submits tariff filing per 154.204: September 1 Negotiated Rates to be effective 9/1/2010.

Filed Date: 08/31/2010.

Accession Number: 20100831-5199.

Comment Date: 5 p.m. Eastern Time on Monday, September 13, 2010.

Docket Numbers: RP10-1149-000.

Applicants: Maritimes & Northeast Pipeline, L.L.C.

Description: Maritimes & Northeast Pipeline, L.L.C. submits tariff filing per 154.204: MNUS Phase IV Filing to be effective 9/1/2010.

Filed Date: 08/31/2010.

Accession Number: 20100831-5200.

Comment Date: 5 p.m. Eastern Time on Monday, September 13, 2010.

Docket Numbers: RP10-1150-000.

Applicants: Kinder Morgan Interstate Gas Transmission LLC.

Description: Kinder Morgan Interstate Gas Transmission LLC submits tariff filing per 154.204: NAESB 1.9 to be effective 11/1/2010.

Filed Date: 08/31/2010.

Accession Number: 20100831-5201.

Comment Date: 5 p.m. Eastern Time on Monday, September 13, 2010.

Docket Numbers: RP10-1151-000.

Applicants: TransColorado Gas Transmission Company LLC.

Description: TransColorado Gas Transmission Company LLC submits tariff filing per 154.204: NAESB 1.9 to be effective 11/1/2010.

Filed Date: 08/31/2010.

Accession Number: 20100831-5202.

Comment Date: 5 p.m. Eastern Time on Monday, September 13, 2010.

Docket Numbers: RP10-1152-000.

Applicants: Florida Gas Transmission Company, LLC.

Description: Florida Gas Transmission Company, LLC submits tariff filing per 154.203: Implement Quality Settlement to be effective 9/1/2010.

Filed Date: 08/31/2010.

Accession Number: 20100831-5204.

Comment Date: 5 p.m. Eastern Time on Monday, September 13, 2010.

Docket Numbers: RP10-1153-000.

Applicants: Rockies Express Pipeline LLC.

Description: Rockies Express Pipeline LLC submits tariff filing per 154.204: NAESB 1.9 to be effective 11/1/2010.

Filed Date: 08/31/2010.

Accession Number: 20100831-5212.

Comment Date: 5 p.m. Eastern Time on Monday, September 13, 2010.

Docket Numbers: RP10-1154-000.

Applicants: Maritimes & Northeast Pipeline, L.L.C.

Description: Maritimes & Northeast Pipeline, L.L.C. submits tariff filing per 154.204: Order 587-U Compliance Filing (NAESB Version 1.9 Standards) to be effective 11/1/2010.

Filed Date: 08/31/2010.

Accession Number: 20100831-5214.

Comment Date: 5 p.m. Eastern Time on Monday, September 13, 2010.

Docket Numbers: RP10-1155-000.

Applicants: MoGas Pipeline LLC.

Description: MoGas Pipeline LLC submits tariff filing per 154.203: Settlement Compliance Filing to be effective 9/1/2010.

Filed Date: 08/31/2010.

Accession Number: 20100831-5225.

Comment Date: 5 p.m. Eastern Time on Monday, September 13, 2010.

Docket Numbers: RP10-1156-000.

Applicants: MoGas Pipeline LLC.

Description: MoGas Pipeline LLC submits tariff filing per 154.204: ACA Filing to be effective 10/1/2010.

Filed Date: 08/31/2010.

Accession Number: 20100831-5226.

Comment Date: 5 p.m. Eastern Time on Monday, September 13, 2010.

Docket Numbers: RP10-1157-000.

Applicants: Southeast Supply Header, LLC.

Description: Southeast Supply Header, LLC submits tariff filing per 154.204: Order 587-U Compliance Filing (NAESB Version 1.9 Standards) to be effective 11/1/2010.

Filed Date: 08/31/2010.

Accession Number: 20100831-5227.

Comment Date: 5 p.m. Eastern Time on Monday, September 13, 2010.

Docket Numbers: RP10-1158-000.

Applicants: MoGas Pipeline LLC.

Description: MoGas Pipeline LLC submits their Annual Fuel Adjustment Filing, to be effective 10/1/2010.

Filed Date: 09/01/2010.

Accession Number: 20100901-5004.

Comment Date: 5 p.m. Eastern Time on Monday, September 13, 2010.

Docket Numbers: RP10-1159-000.

Applicants: ANR Storage Company.

Description: ANR Storage Company submits tariff filing per 154.204: NAESB 1.9 Standards to be effective 11/1/2010.

Filed Date: 09/01/2010.

Accession Number: 20100901-5021.

Comment Date: 5 p.m. Eastern Time on Monday, September 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-22419 Filed 9-8-10; 8:45 am]

BILLING CODE 6717-01-P